DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of January 1, 2021 through January 31, 2021. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) the sales or production, or both, of such firm, have decreased absolutely;

AND (ii and iii below)

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services from a Foreign Country Path:

(i) (I) there has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) a significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) the workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C)of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
95,117 | D & D Furniture Co. Inc | Martinsville, VA | August 23, 2018.
95,311 | Tata Consultancy Services Limited, CRM Dynamic Operations, Tata Sons, IDC Technologies, Enterprise Solutions | Bellevue, WA | October 18, 2018.
95,488 | ACF Industries, LLC, Starfire Holding Corporation, WorkForce Temps | Milton, PA | December 17, 2018.
95,607 | Granite Source Acquisition, LLC dba Premier Surfaces, Clio Holdings, LLC | Chantilly, VA | January 24, 2019.
95,662 | Omega Pacific, Inc | Airway Heights, WA | February 5, 2019.
95,700 | Concentrix CVG Customer Management Group, Concentrix CVG Corporation | Rio Rancho, NM | February 18, 2019.
95,703 | HED Cycling Products, Inc | Roseville, MN | February 18, 2019.
95,807 | Denton Publications | Elizabethtown, NY | March 11, 2019.
95,820 | TFP Holdings, LLC (D/B/A Timberland Forest Products), Duraflame, Inc., Penmac Staffing, EXCEL Temporary Services | West Plains, MO | March 16, 2019.
95,879 | Allegheny & Tsingshan Stainless, LLC, Allegheny Ludlum, Allegheny Technologies, Sterling Office Professionals | Midland, PA | April 9, 2019.
95,897 | Daimler Trucks North America, Cleveland Truck Plant, Daimler AG | Cleveland, NC | April 22, 2019.
95,978 | Agrati, Inc., Agrati Group, Express Pros, JMJ Talent Solutions | Valparaiso, IN | June 10, 2019.
96,019 | Verso Corporation, Duluth Mill, Project Service, Inc. (PSI) | Duluth, MN | June 26, 2019.
96,046 | Triumph Aerostructures, Triumph Aerospace Structure Division, Triumph Group | Red Oak, TX | December 15, 2019.
96,195 | Siemens Gamesa Renewable Energy, Inc., Siemens Gamesa Renewable Energy, S.A., Manpower | Fort Madison, IA | March 31, 2020.
96,195A | Team Staffing Solutions, Siemens Gamesa Renewable Energy, Inc., Siemens Gamesa Renewable Energy | Fort Madison, IA | September 15, 2019.
96,307 | Acushnet Company, Acushnet Holdings Corporation | Fairhaven, MA | September 23, 2019.
96,403 | Kiswire Pine Bluff, Inc., Kiswire Atlanta, Inc | Pine Bluff, AR | September 25, 2019.
96,612 | Howmet Aerospace Inc | Niles, OH | November 13, 2019.
96,621 | Eaton Corporation, Vehicle Group North America | Auburn, IN | November 19, 2019.

The following certifications have been issued. The requirements of Section 222(a)(2)(B) (Shift in Production or Services to a Foreign Country Path or Acquisition of Articles or Services from a Foreign Country Path) of the Trade Act have been met.

TA-W No. | Subject firm | Location | Impact date
94,636 | Superwinch, LLC | Tualatin, OR | March 15, 2018.
94,898 | Legend3D, Inc | Los Angeles, CA | May 5, 2020.
95,087 | Thomson Reuters | Bellevue, WA | August 12, 2018.
95,234 | Xerox, Base Billing & Customer Services Billing Division | Rosemont, IL | September 27, 2018.
95,317 | Loot Crate | Vernon, CA | October 22, 2018.
95,320 | Loot Crate, Inc | Lock Haven, PA | October 23, 2018.
95,335 | Omron Automotive Electronics, Inc., Omron Automotive Electronics Japan (OAEJ), Relay (OAE) Division, Aerotek | St. Charles, IL | October 28, 2018.
95,437 | Lattice Semiconductor Corporation, Human Resource department | Hillsboro, OR | December 2, 2018.
95,437A | Lattice Semiconductor Corporation, R&D department | Hillsboro, OR | December 2, 2018.
95,470 | HomeAdvisor, Inc., ANGI Homeservices, Inc | Colorado Springs, CO | December 10, 2018.
95,497 | Metalor Technologies USA, Electrotechnics Division | Export, PA | September 11, 2019.
95,693 | UiPath, Inc., Deal Hub Sales Support | New York, NY | February 14, 2019.
95,693B | UiPath, Inc., Deal Hub Sales Support | Houston, TX | February 14, 2019.
95,705 | Tenneco Inc | Seward, NE | February 18, 2019.
95,706A | Anthem, Inc., Benefits Administration for National Accounts, Randstad North America, etc | Indianapolis, IN | February 20, 2019.
95,788 | Honeywell Safety Products, Engineering Design Services, Honeywell International Inc., CorTech LLC | Franklin, PA | March 6, 2019.
95,863 | Anthem, Inc., Commercial Claims & Adjustments, COO-CSBD, Execution—Local Experience | Indianapolis, IN | April 1, 2019.
95,926 | HCL America, Inc., Engineering, R&D Services, Digital Process Operations | Syracuse, NY | May 18, 2019.
95,986 | Flexsteel Industries, Inc., Dubuque Operations Plant, Sedona Staffing, Express Employment | Dubuque, IA | June 12, 2019.
96,026 | Ponderay Newsprint Company | Usk, WA | June 29, 2019.
96,073 | SeAH Steel USA, LLC, SeAH Steel Investment America, LLC, XL Pro Staffing &amp; Consulting | Houston, TX | July 20, 2019.
96,191 | Roche Operations Ltd., Adecco, ABM Industries, G4S Security, Weil Group, etc | Ponce, PR | September 14, 2019.
96,198 | The LYCRA Company, LLC | Waynesboro, VA | September 17, 2019.
96,503 | Sandvik Special Metals LLC | Kennewick, WA | September 29, 2019.
96,505 | BGF Industries, Inc., Non Wovens Division | Altavista, VA | October 1, 2019.
96,506 | BGF Industries, Inc., a subsidiary of Porcher Industries | Altavista, VA | October 1, 2019.
96,520 | Acuity Brands | Tucson, AZ | October 1, 2019.
96,549 | Black Box Corporation of Pennsylvania, Marketing and Procurement | Lawrence, PA | October 9, 2019.
96,563 | Caterpillar Inc., Global Engineering Department | Morton, IL | October 16, 2019.
96,579 | Valsoft SARS, Inc. (dba Macpractice) | Lincoln, NE | October 28, 2019.
96,581 | Solera Holdings US | South Jordan, UT | October 29, 2019.
96,587 | Peabody Southeast Mining, LLC, Shoal Creek Mine | Oakman, AL | October 30, 2019.
96,590 | Allegro MicroSystems, Cost Accounting & Enterprise Data Management | Marlborough, MA | November 2, 2019.
96,618 | BCS Access Systems US LLC, Management | Auburn, NY | November 17, 2019.
96,633 | TE Connectivity, Connectors | Oceanside, CA | December 13, 2020.
96,636 | Nokia of of America Corporation | Dublin, OH | September 29, 2020.
96,648 | Manitou Equipment America, LLC | Waco, TX | December 17, 2019.
96,654 | Ralph Lauren Corporation, New York City Pattern/Technical Design | New York, NY | December 24, 2019.
96,662 | ILSCO LLC, Cincinnati Manufacturing Operations ILSCO Corporation | Cincinnati, OH | January 5, 2020.

The following certifications have been issued. The requirements of Section 222(b) (supplier to a firm whose workers are certified eligible to apply for TAA) of the Trade Act have been met.

TA-W No. | Subject firm | Location | Impact date
94,648 | Faurecia Interior Systems, Lansing Plant, Interiors Division, Caliper (Cortech) | Lansing, MI | March 20, 2018.
95,153 | Paradigm Solutions, LLC | St. Clair, PA | September 5, 2018.
95,337 | BakerCorp, United Rentals | Seal Beach, CA | October 29, 2018.
95,798 | Corsicana Bedding, LLC | Dallas, TX | March 9, 2019.
96,310 | Valent Aerostructures, Manufacturing & Warehouse facilities, LMI Aerospace, Inc | Wichita, KS | September 24, 2019.
96,405 | NWI Wichita, LLC | Wichita, KS | September 25, 2019.
96,502 | Arcosa Wind Towers, Inc., A Wholly Owned Subsidiary of Arcosa, Inc | Dallas, TX | September 30, 2019.

The following certifications have been issued. The requirements of Section 222(e) (firms identified by the International Trade Commission) of the Trade Act have been met.

TA-W No. | Subject firm | Location | Impact date
95,790 | Lanz Cabinets Shop, Inc | Eugene, OR | April 26, 2018.
95,887 | EVRAZ Oregon Steel, EVRAZ Inc. NA | Portland, OR | February 6, 2020.
95,949 | American Woodmark Corporation | Gas City, IN | April 17, 2019.
95,950 | Kountry Wood Products LLC | Nappanee, IN | April 17, 2019.
95,964 | ACProducts, Inc. dba Cabinetworks Group, Express Employment Professionals, Excel Staffing, Masterson Staffing | Waconia, MN | April 17, 2019.
95,972 | ACProducts, Inc. dba Cabinetworks Group, Spherion, Randstad USA | Mount Jackson, VA | April 17, 2019.
95,972A | ACProducts, Inc. dba Cabinetworks Group, Surge Staffing, Matern Staffing, Randstad USA | Culpeper, VA | April 17, 2019.
95,974 | Dura Supreme, LLC, Dura Supreme Holdings, Inc | Howard Lake, MN | April 17, 2019.
95,991 | LACAVA LLC, LACAVA Industries LLC | Chicago, IL | April 17, 2019.
96,075 | Southern Finishing Company, Plant #12, Hire Dynamics, LLC | Martinsville, VA | April 17, 2019.
96,075A | Southern Finishing Company, Plant #15, Hire Dynamics, LLC | Martinsville, VA | April 17, 2019.
96,663 | Texas PMW | Houston, TX | December 2, 2019.
96,665 | J.B. Smith Manufacturing, Manufacturing Anvil & Smith Cooper International | Houston, TX | December 2, 2019.

Negative Determinations for Worker Adjustment Assistance

In the following cases, the investigation revealed that the eligibility criteria for TAA have not been met for the reasons specified.

The investigation revealed that the requirements of Trade Act section 222(a)(1) and (b)(1) (significant worker total/partial separation or threat of total/partial separation), or (e) (firms identified by the International Trade Commission), have not been met.

TA-W No. | Subject firm | Location | Impact date
95,071 | CGI Technologies And Solutions, Inc., Corporate Services Division, Global eProcurement Unit | Fairfax, VA |
95,706B | Anthem, Inc., Project Management for Specialty Business, Randstad North America, etc | Indianapolis, IN |
96,075B | Southern Finishing Company, Corporate Office, Hire Dynamics, LLC | Stoneville, NC |

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
95,693A | UiPath, Inc., Licensing, Maintenance, and Professional Services | New York, NY |
95,693C | UiPath, Inc., Licensing, Maintenance, and Professional Services | Houston, TX |
95,693D | UiPath, Inc., Licensing, Maintenance, and Professional Services | Brooklyn, NY |
95,696 | Nike In House Manufacturing, Inc. dba Nike Air Manufacturing Innovation, Tailwind facility, NIKE, Inc., Manpower, Inc | Beaverton, OR |
95,865 | VW Manufacturing Service, Valveworks, USA, 1st Choice Professionals | Kilgore, TX |
95,895 | Chart Energy & Chemicals, Inc., La Crosse (BAHX), Energy & Chemicals Cryogenics segment, Chart Industries | La Crosse, WI |
95,983 | HomeAdvisor, Inc., ANGI Homeservices, Inc., 1 Virginia Avenue | Indianapolis, IN |
95,983A | HomeAdvisor, Inc., ANGI Homeservices, Inc., 342 Massachusetts Avenue | Indianapolis, IN |

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
95,176A | General Motors Fairfax Assembly, Fairfax IT, General Motors LLC | Kansas City, KS |
95,386 | CMC Steel US, LLC, CMC Steel Fabricators, Inc | Muncie, IN |
95,514 | Summit TBC, LLC dba Medical Billing Solutions, Zrlka Inc | Richmond, VA |
95,534 | AT&T Services Inc., Global Operations/Network Infrastructure & Services Division, AT&T Inc | Tualatin, OR |
95,706 | Anthem, Inc., Enterprise Client/IT, Randstad North America, Pyramid Consultant, etc | Indianapolis, IN |
95,713 | AdaptHealth Patient Care Solutions, Inc., Patient Pay Team, AdaptHealth Corp., McKesson Patient Care Solutions | Moon Township, PA |
95,726 | IPSCO Koppel Tubulars, LLC, IPSCO Tubulars, Maverick Tube, Tenaris, Adecco, Aerotek, etc | Ambridge, PA |
95,763 | Hartshorne Mining, LLC, Poplar Grove Mine, Hartshorne Mining Group, Hartshorne Holdings, etc | Rumsey, KY |
95,788A | Honeywell Safety Products, Production Workers, Honeywell International Inc., CorTech LLC | Franklin, PA |
95,877 | Atchison Tubular Services | Atchison, KS |
95,911 | U.S. Steel Oilwell Services, LLC, Wheeling Machine Products, U.S. Steel Corporation | Hughes Springs, TX |
95,927 | United Conveyor Supply Company, United Conveyor Holdings Corporation | Waukegan, IL |
95,927A | United Conveyor Supply Company, United Conveyor Holdings Corporation | Melrose Park, IL |
95,927B | United Conveyor Supply Company, United Conveyor Holdings Corporation | Mishawaka, IN |
96,048 | Vallourec Star, LP, Vallourec Group NA, Vallourec S.A., Midwest Industrial, etc | Youngstown, OH |
96,107 | Whelen Engineering Company, Inc., CoWorx Staffing Services | Chester, CT |
96,107A | Whelen Engineering Company, Inc., CoWorx Staffing Services | Charlestown, NH |
96,638 | UNFI, Natural Retail Group, Inc. d/b/a Honest Green Market | Providence, RI |

Determinations Terminating Investigations of Petitions for Trade Adjustment Assistance

After notice of the petitions was published in the Federal Register and on the Department's website, as required by Section 221 of the Act (19 U.S.C. 2271), the Department initiated investigations of these petitions.

The following determinations terminating investigations were issued in cases where the petition regarding the investigation has been deemed invalid.

TA-W No. | Subject firm | Location | Impact date
96,025 | Elli Mae's Kountry Cafe | Moultrie, GA |

The following determinations terminating investigations were issued because the worker group on whose behalf the petition was filed is covered under an existing certification.

TA-W No. | Subject firm | Location | Impact date
95,176 | General Motors Fairfax Assembly, Applications Operations Services (AOS), General Motors LLC | Kansas City, KS |
95,211 | SCSI and Manpower, Caterpillar, Inc., Mining Hauling and Underground Division | Montgomery, IL |
95,449 | Muzak LLC, Mood Media | Fort Mill, SC |
95,465 | Tri-Star Electronics International Inc | El Segundo, CA |
96,114 | Pal American Security, Pittsburgh Glass Works, LLC | Evansville, IN |
96,165 | United States Steel Corporation, Great Lakes Works, Veolia North America | Ecorse, MI |
96,179 | HP Inc., Imaging, Printing and Solutions Business Group | Vancouver, WA |
96,667 | SECO/Warwick Corporation, a subsidiary of SECO/Warwick SA | Meadville, PA |

The following determinations terminating investigations were issued because the petitioning group of workers is covered by an earlier petition that is the subject of an ongoing investigation for which a determination has not yet been issued.

TA-W No. | Subject firm | Location | Impact date
95,934 | United Conveyor Supply Company, United Conveyor Holdings Corporation | Waukegan, IL |

I hereby certify that the aforementioned determinations were issued during the period of January 1, 2021 through January 31, 2021. These determinations are available on the Department's website https://www.doleta.gov/tradeact/petitioners/taa_search_form.cfm under the searchable listing determinations or by calling the Office of Trade Adjustment Assistance toll free at 888-365-6822.

Signed at Washington, DC, this 10th day of February 2021.
Hope D. Kinglock,
Certifying Officer, Office of Trade Adjustment Assistance.

[FR Doc. 2021-05837 Filed 3-19-21; 8:45 am]

BILLING CODE 4510-FN-P